DEPARTMENT OF HOMELAND SECURITY

Coast Guard

[USCG-2005-23024]

International Code for the Construction & Equipment of Ships Carrying Dangerous Chemicals in Bulk—December 2005 Deadline for Manufacturers of Affected Products

AGENCY: Coast Guard, DHS.

ACTION: Notice.

SUMMARY: The Coast Guard notifies manufacturers that there is a December 31, 2005 deadline to supply missing safety or pollution data for the revised International Code for the Construction & Equipment of Ships Carrying Dangerous Chemicals in Bulk, which will affect the bulk shipment of certain products on most international voyages.

DATES: The International Maritime Organization should receive missing data no later than December 31, 2005.

ADDRESSES: Missing data can be delivered to the following address: GESAMP/EHS, International Maritime Organization, 4 Albert Embankment, London SE1 7SR, United Kingdom. You may submit comments identified by Coast Guard docket number USCG-2005-23024 to the Docket Management Facility at the U.S. Department of Transportation. To avoid duplication, please use only one of the following methods:

(1) Web Site: http://dms.dot.gov.

(2) Mail: Docket Management Facility, U.S. Department of Transportation, 400 Seventh Street, SW., Washington, DC 20590-0001.

(3) Fax: 202-493-2251.

(4) Delivery: Room PL-401 on the Plaza level of the Nassif Building, 400 Seventh Street, SW., Washington, DC, between 9 a.m. and 5 p.m., Monday through Friday, except Federal holidays. The telephone number is 202-366-9329.

FOR FURTHER INFORMATION CONTACT: If you have questions on this notice, call Mr. Tom Felleisen, Hazardous Materials Standards Division (G-MSO-3), Coast Guard, telephone 202-267-0086. If you have questions on viewing or submitting material to the docket, call Renee V. Wright, Program Manager, Docket Operations, telephone 202-493-0402.

SUPPLEMENTARY INFORMATION:

Request for Comments

All comments received will be posted, without change, to http://dms.dot.gov and will include any personal information you have provided. We have an agreement with the Department of Transportation (DOT) to use the Docket Management Facility. Please see DOT's “Privacy Act” paragraph below.

Submitting comments: If you submit a comment, please include your name and address, identify the docket number for this notice (USCG-2005-23024) and give the reason for each comment. You may submit your comments by electronic means, mail, fax, or delivery to the Docket Management Facility at the address under ADDRESSES; but please submit your comments by only one means. If you submit them by mail or delivery, submit them in an unbound format, no larger than 8½ by 11 inches, suitable for copying and electronic filing. If you submit them by mail and would like to know that they reached the Facility, please enclose a stamped, self-addressed postcard or envelope. We will consider all comments received during the comment period.

Viewing comments and documents: To view comments, go to http://dms.dot.gov at any time, click on “Simple Search,” enter the last five digits of the docket number for this rulemaking, and click on “Search.” You may also visit the Docket Management Facility in room PL-401 on the Plaza level of the Nassif Building, 400 Seventh Street, SW., Washington, DC, between 9 a.m. and 5 p.m., Monday through Friday, except Federal holidays.

Privacy Act: Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://dms.dot.gov.

Background and Purpose

The International Maritime Organization's (IMO) Maritime Safety Committee adopted the revised International Code for the Construction & Equipment of Ships Carrying Dangerous Chemicals in Bulk (IBC Code) last year. Over 120 products were omitted from either Chapter 17 or 18 of the IBC Code due to missing safety and or pollution data. The 41st session of the Joint Group of Experts on the Scientific Aspects of Marine Environmental Protection working group on the Evaluation of the Hazards of Harmful Substances Carried by Ships and the most recent session of the working group on the Evaluation of Safety and Pollution Hazards updated this list. IMO will exclude these products from the revised IBC Code unless it receives the missing data by December 31, 2005. If these products are excluded, shippers will be unable to carry them in bulk after January 1, 2007 on most international voyages. Therefore, the manufacturers of these products should supply the missing safety and or pollution data to the IMO GESAMP/EHS Secretariat (see ADDRESSES) by December 31, 2005.

This notice of an IMO action does not mean that the Coast Guard will necessarily be implementing the IMO action on all international shipments. Implementation of IMO actions would be the subject of a future rulemaking under a distinct docket.

The affected products are:

1. Acetochlor

2. Alkaryl polyethers (C9-C20)

3. Alkenyl (C11+) amide

4. Alkyl(C8+)amine, Alkenyl (C12+) acid ester mixture

5. Aluminium chloride (30% or less)/Hydrochloric acid (20% or less) solution

6. 2-(2-Aminoethoxy) ethanol

7. 2-Amino-2-hydroxymethyl-1,3-propanediol solution (40% or less)

8. Ammonium bisulphite solution (70% or less)

9. Ammonium thiocyanate (25% or less)/Ammonium thiosulphate (20% or less) solution

10. Benzyl chloride

11. N,N-bis(2-hydroxyethyl) oleamide

12. Brake fluid base mix: Poly(2-8)alkylene (C2-C3) glycols/Polyalkylene (C2-C10)

13. glycols monoalkyl (C1-C4) ethers and their borate esters

14. Butene oligomer

15. Butyl stearate

16. Calcium alkyl (C9) phenol sulphide/Polyolefin phosphorosulphide mixture

17. Calcium long-chain alkaryl sulphonate (C11-C50)

18. Calcium long-chain alkyl phenolic amine (C8-C40)

19. Calcium nitrate/Magnesium nitrate/Potassium chloride solution

20. Calcium nitrate solutions (50% or less)

21. Camphor oil

22. Caramel solutions

23. Carbolic oil

24. Cashew nut shell oil (untreated)

25. Chlorinated paraffins (C14-C17) (with 50% chlorine or more, and less than 1% C13 or shorter chains)

26. Coal tar

27. Coal tar naphtha solvent

28. Coal tar pitch (molten)

29. Cobalt naphthenate in solvent naphtha

30. Coconut oil fatty acid methyl ester

31. Creosote (coal tar)

32. Creosote (wood)

33. Cresylic acid, sodium salt solution

34. Decyl acetate

35. 1,6-Dichlorohexane

36. 2,4-Dichlorophenoxyacetic acid, triisopropanolamine salt solution

37. 1,3-Dichloropropane

38. Diethylene glycol diethyl ether

39. Diethylene glycol phthalate

40. Diglycidyl ether of bisphenol

41. 1,4-Dihydro-9,10-dihydroxyanthracene, disodium salt solution

42. Diisononyl adipate

43. Dinonyl phthalate

44. Diphenylamine, reaction product with 2,2,4-Trimethylpentene

45. Diphenylmethane diisocyanate

46. Ditridecyl adipate

47. Ditridecyl phthalate

48. Dodecenylsuccinic acid, dipotassium salt solution

49. Dodecylamine/Tetradecylamine mixture

50. Dodecyl diphenyl ether disulphonate solution

51. Ethyl amyl ketone

52. N-Ethylbutylamine

53. Ethyl butyrate

54. Ethylene glycol methyl butyl ether

55. Ethylene-Vinyl acetate copolymer (emulsion)

56. o-Ethylphenol

57. Ethyl propionate

58. Ferric hydroxyethylethylenediaminetriacetic acid, trisodium salt solution

59. Fish solubles (water-based fish meal extract)

60. Fluorosilicic acid (20-30%) in water solution

61. Fumaric adduct of rosin, water dispersion

62. Glycerine (83%), Dioxanedimethanol (17%) mixture

63. Glycerol polyalkoxylate

64. Icosa (oxypropane-2,3-diyl)s

65. Isopropylamine (70% or less)

66. Latex, ammonia (1% or less), inhibited

67. Latex: Carboxylated styrene-Butadiene copolymer; Styrene-Butadiene rubber

68. Ligninsulphonic acid, sodium salt solution

69. Long-chain alkaryl sulphonic acid (C16-C60)

70. Long-chain polyetheramine in alkyl (C2-C4) benzenes

71. Long-chain polyetheramine in aromatic solvent

72. Magnesium long-chain alkaryl sulphonate (C11-C50)

73. Methyl heptyl ketone

74. 3-Methyl-3-methoxybutyl acetate

75. Naphthenic Acids

76. Nitroethane, 1-Nitropropane (each 15% or more) mixture

77. o- or p-Nitrotoluenes

78. Nonyl acetate

79. Octyl decyl adipate

80. Oleylamine

81. Palm kernel acid oil

82. Palm oil fatty acid methyl ester

83. Pentaethylenehexamine

84. Phosphate esters, alkyl (C12-C14) amine

85. Poly(2-8)alkylene glycol monoalkyl(C1-C6) ether

86. Poly(2-8)alkylene glycol monoalkyl (C1-C6) ether acetate

87. Polyalkylene oxide polyol

88. Polybutene

89. Polyether (molecular weight 2000+)

90. Polyethylene polyamines

91. Polyglycerin, sodium salt solution (containing less than 3% sodium hydroxide)

92. Polyglycerol

93. Polyolefin amide alkeneamine/molybdenum oxysulphide mixture

94. Polyolefin amide alkeneamine polyol

95. Polyolefin aminoester salts (mw 2000+)

96. Poly(5+)propylene

97. Poly(tetramethylene ether) glycol (mw 600-3000)

98. Potassium chloride solution (10% or more)

99. Potassium salt of polyolefin acid

100. n-Propyl chloride

101. Propylene-Butylene copolymer

102. Propylene dimer

103. Pyrolysis gasoline

104. Rosin soap (disproportionated) solution

105. Sodium alkyl (C14-C17) sulphonates (60-65% solution)

106. Sodium aluminate solution

107. Sodium petroleum sulphonate

108. Sodium tartrates/Sodium succinates solution

109. Sulpho hydrocarbon long chain (C18+) alkylamine mixture

110. Sulphurized polyolefinamide alkene (C28-C250) amine

111. Tall oil (crude and distilled)

112. Tall oil fatty acid (resin acids less than 20%)

113. Tall oil fatty acid, barium salt

114. Tall oil soap (disproportionated) solution

115. Tallow fatty acid

116. Trimethylhexamethylenediamine (2,2,4- and 2,4,4-isomers)

117. Trimethylhexamethylene diisocyanate (2,2,4-and 2,4,4-isomers)

118. Trimethylolpropane polyethoxylate

119. Trimethyl phosphite

120. Urea/Ammonium mono- and dihydrogen phosphate/Potassium chloride solution

121. Urea formaldehyde resin solution

122. White spirit, low (15-20%) aromatic

Dated: November 17, 2005.
Howard L. Hime,
Acting Director of Standards, Marine, Safety, Security, and Environmental Protection, U.S. Coast Guard.

[FR Doc. 05-23234 Filed 11-22-05; 8:45 am]

BILLING CODE 4910-15-P